DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by contacting Vasant Gandhi, J.D., Ph.D., at the Office of Technology Transfer, National Institutes of Health, 6011 Executive Boulevard, Suite 325, Rockville, Maryland 20852-3804; telephone: 301/496-7056 ext. 224; fax: 301/402-0220; e-mail: vg48q@nih.gov. A signed Confidential Disclosure Agreement will be required to receive copies of the patent applications.

Peptides That Inhibit the Binding of Human Monocyte Chemoattractant Protein-1 (MCP-1) to Its Receptor CCR2

Teizo Yoshimura (NCI)

DHHS Reference No. E-235-99/0 filed 30 Nov 1999

MCP-1 is a chemoattractant protein and is a member of a family of proinflammatory cytokines called chemokines. Chemokines are of interest because of their ability to attract and activate specific leukocyte subsets to the exclusion of others. In particular, MCP-1 is capable of attracting monocytes but not neutrophils. The inventors isolated peptides with an antibody (E11) that immunoreacts with MCP-1. One such peptide may be useful in blocking the interaction of MCP-1 and its receptor CCR2 which may disrupt the formation and/or progression of a variety of disease states. MCP-1 has been detected in lesions of atherosclerosis, rheumatoid arthritis, pulmonary fibrosis and tumors such as malignant fibrous histiocytoma, malignant glioma, meningioma or melanoma.

Inhibition of ABC Transporters by Transmembrane Domain Analogs

Nadya Tarasova, Michael M Gottesman, Christine Hrycyna,

Christopher J Michejda (NCI)

DHHS Reference No. E-019-00/0 filed 18 Nov 1999

ABC transporters contain multiple transmembrane domains and are involved in the translocation of a variety of substrates across cell membranes. Upregulation of these transporters contributes to multiple drug resistance in cancer chemotherapy. The inventors have found that the P-gp (P-glycoprotein or Multiple Drug Resistance Protein-1) can be inhibited by properly substituted peptides corresponding to one of the transmembrane domains. Such inhibition can be used to enhance the activity of cancer chemotherapy in resistant tumors.

Assay for the Detection of a Variety of Tumors in Biological Specimens

Larry W. Fisher, Neal S. Fedarko, Marian F. Young (NICHD)

DHHS Reference No. E-173-98/0 filed 09 Apr 1999

The inventors have developed methods and reagents for the detection of bone sialoprotein (BSP) in biological samples. The technology relates to the disruption of a serum complex that masks the majority of BSP from established detection systems. Furthermore, there is evidence that there may be a more acidic form of BSP secreted not by normal bone, but only by tumors. Detection of BSP in serum may be a good marker of various bone diseases and a variety of cancers including breast, prostate, lung, and thyroid.

Dated: April 25, 2000.
Jack Spiegel,
Director, Division of Technology Development and Transfer, Office of Technology Transfer, National Institutes of Health.

[FR Doc. 00-12547 Filed 5-17-00; 8:45 am]

BILLING CODE 4140-01-P